Proclamation 9484 of September 1, 2016

National Ovarian Cancer Awareness Month, 2016

By the President of the United States of America

A Proclamation

Causing more deaths than any other female reproductive system cancers, ovarian cancer affects women of all ages and backgrounds. But the incidence of ovarian cancer, and its death rate, have fallen in recent years. Today, cancer research is on the cusp of major breakthroughs, and it is of critical national importance that we accelerate this progress and keep reaching for prevention, treatment, and a cure. Each September, in honor of the women who have been taken by ovarian cancer and the brave individuals still fighting this disease, we reaffirm our commitment to carrying forward this important work.

It is estimated that more than 22,000 American women will be diagnosed with ovarian cancer this year, and due to a lack of effective screening tests and early warning signs, many of these cases will be caught at an advanced stage—making the cancer more difficult to treat, with a lower chance for recovery. Ovarian cancer is more common among older women and those who have it in their family history, but because most women are diagnosed without being at high risk, it is crucial that all women consult with their health care providers when experiencing some of its symptoms, which include pressure, swelling, and abdominal pain. I encourage everyone to visit www.Cancer.gov/Ovarian to learn more about the signs and symptoms of this disease.

Under the Affordable Care Act, annual and lifetime limits on insurance coverage have been eliminated, and critical preventive services like well-woman visits—which are now available without a copay or deductible—have been expanded for millions more women. The Act also prohibits insurance companies from denying coverage based on a pre-existing condition, including cancer, or from denying coverage due to a family history of cancer.

Earlier this year, I announced a new national effort to cure cancer. Led by Vice President Joe Biden, the White House Cancer Moonshot Task Force is promoting research efforts and breaking down barriers to progress to eliminate cancer as we know it. With the help of a nearly $1 billion initiative to jumpstart this work, we are harnessing the spirit of American innovation to identify new ways to prevent, diagnose, and treat cancer. The Task Force builds on the important work that Federal agencies have already been doing throughout my time in office to fight ovarian cancer. The Department of Defense Ovarian Cancer Research Program is supporting high-impact, cutting-edge research where it is needed most and has helped push these research priorities forward. And the Centers for Disease Control and Prevention has striven to raise awareness of the main types of gynecologic cancer, including ovarian cancer, and to encourage women to learn of warning signs and seek medical care.

For the mothers, sisters, daughters, partners, and families who face the pain and heartache of ovarian cancer, we must make America the country that cures cancer once and for all. During National Ovarian Cancer Awareness Month, as we recognize those in the medical community who work tirelessly to provide treatment and care and pay tribute to those who have lost their lives to this disease, let us resolve to increase awareness of ovarian cancer and shape a cancer-free future.

NOW, THEREFORE, I, BARACK OBAMA, President of the United States of America, by virtue of the authority vested in me by the Constitution and the laws of the United States, do hereby proclaim September 2016 as National Ovarian Cancer Awareness Month. I call upon citizens, government agencies, organizations, health care providers, and research institutions to raise ovarian cancer awareness and continue helping Americans live longer, healthier lives.

IN WITNESS WHEREOF, I have hereunto set my hand this first day of September, in the year of our Lord two thousand sixteen, and of the Independence of the United States of America the two hundred and forty-first.

[FR Doc. 2016-21817

Filed 9-7-16; 11:15 am]

Billing code 3295-F6-P